DEPARTMENT OF DEFENSE

Office of the Secretary

[Transmittal No. 22-04]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-04 with attached Policy Justification and Sensitivity of Technology.

Dated: May 8, 2024.
Aaron T. Siegel,
Alternate OSD Federal Register Liaison Officer, Department of Defense.

BILLING CODE 6001-FR-P

BILLING CODE 6001-FR-C

Transmittal No. 22-04

Notice of Proposed Issuance of Letter of Offer Pursuant to Section 36(b)(1) of the Arms Export Control Act, as amended

(i) Prospective Purchaser: Government of Bahrain

(ii) Total Estimated Value:

Major Defense Equipment * | $ 0 million
Other | $175.98 million
TOTAL | $175.98 million

Funding Source: National Funds

(iii) Description and Quantity or Quantities of Articles or Services under Consideration for Purchase:

Major Defense Equipment (MDE):

None

Non-MDE:

Upgrade nine (9) M270 Multiple Launch Rocket Systems (MLRS) to M270 A1 minimum configuration. The upgrade will include: the Common Fire Control System (CFCS); Improved Launcher Mechanical System (ILMS); 600h Engine and associated engine compartment modifications; Improved Electronics Distribution Box (IEDB); fan speed control valve; cables and mounting hardware, Power Take Off (PTO) and BOO series transmission; the Digital Communication Systems (DCOMMS); and Vehicular Intercom System (AN/VIC-3). In addition, the effort will include two (2) years spare parts; Operator and Maintenance Training Course' Contractor Logistics Support; U.S. Government engineering support; support and test equipment; integration and test support, software delivery and support; publications and technical documentation; technical and logistics support services; storage; and other related elements of logistical and program support.

(iv) Military Department: Army (BA-B-ULJ)

(v) Prior Related Cases, if any: BA-B-JAH, BA-B-UEP, BA-B-UIW

(vi) Sales Commission, Fee, etc., Paid, Offered, or Agreed to be Paid: None

(vii) Sensitivity of Technology Contained in the Defense Article or Defense Services Proposed to be Sold: See Attached Annex

(viii) Date Report Delivered to Congress: March 24, 2022

* As defined in Section 47(6) of the Arms Export Control Act.

POLICY JUSTIFICATION

Bahrain—M270 Multiple Launch Rocket Systems (MLRS) Upgrade

The Government of Bahrain has requested to buy upgrades to nine (9) M270 Multiple Launch Rocket Systems (MLRS) to a M270 A1 minimum configuration. The upgrade will include: the Common Fire Control System (CFCS); Improved Launcher Mechanical System (ILMS); 600h Engine and associated engine compartment modifications; Improved Electronics Distribution Box (IEDB); fan speed control valve; cables and mounting hardware, Power Take Off (PTO) and BOO series transmission; the Digital Communication Systems (DCOMMS); and Vehicular Intercom System (AN/VIC-3). In addition, the effort will include two (2) years spare parts; Operator and Maintenance Training Course' Contractor Logistics Support; U.S. Government engineering support; support and test equipment; integration and test support, software delivery and support; publications and technical documentation; technical and logistics support services; storage; and other related elements of logistical and program support. The estimated total cost is $175.98 million.

This proposed sale will support the foreign policy and national security of the United States by helping to improve the security of a Major Non-NATO Ally that is an important force for political stability and economic progress in the Middle East.

The proposed sale will improve Bahrain's capability to meet current and future threats by enhancing Bahrain's ability to defend itself against regional malign actors and improve interoperability with systems operated by U.S. forces and other Gulf countries. Bahrain's continued investment in its defensive capabilities is crucial to protecting its borders, energy infrastructure, and its residents, including over 15,000 U.S. citizens and Naval personnel living and working in the country. Bahrain will have no difficulty absorbing these upgraded MLRSs into its armed forces.

The proposed sale of this equipment and support will not alter the basic military balance in the region.

The principal contractor will be the Lockheed Martin Corporation, Bethesda, MD. There are no known offset agreements proposed in connection with this potential sale.

Implementation of this proposed sale will not require the assignment of any additional U.S. Government or contractor representatives to Bahrain.

There will be no adverse impact on U.S. defense readiness as a result of this proposed sale.

Transmittal No. 22-04

Notice of Proposed Issuance of Letter of Offer Pursuant to Section 36(b)(1) of the Arms Export Control Act

Annex

Item No. vii

(vii) Sensitivity of Technology:

1. The Multiple Launch Rocket System (MLRS) is a high-mobility automatic system based on an M270 weapons platform. The MLRS fires surface-to-surface rockets: the Army Tactical Missile System (ATACMS) and the Guided Multiple Launch Rocket System (GMLRS). Without leaving the cab, the crew of three (driver, gunner and section chief) can fire up to 12 MLRS rockets in fewer than 60 seconds.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the Government of Bahrain can provide substantially the same degree of protection for the sensitive technology being released as the U.S. Government. This sale is necessary in furtherance of the U.S. foreign policy and national security objectives outlined in the Policy Justification.

5. All defense articles and services listed in this transmittal have been authorized for release and export to the Government of Bahrain.

[FR Doc. 2024-10472 Filed 5-13-24; 8:45 am]

BILLING CODE 6001-FR-P